SECURITIES AND EXCHANGE COMMISSION

[Release No. 34-82267; File No. SR-BOX-2017-16]

Self-Regulatory Organizations; BOX Options Exchange LLC; Notice of Filing of Amendment No. 2 to a Proposed Rule Change Amending Consolidated Audit Trail Funding Fees

December 11, 2017.

Correction

In notice document 2017-26990, appearing on pages 59680-59682, in the issue of Friday, December 15, 2017, please note the following correction:

On page 59682 in the third column, in the thirty-eighth line from the top, “January 5, 2017” should read “January 5, 2018”.

[FR Doc. C1-2017-26990 Filed 1-2-18; 8:45 am]

BILLING CODE 1301-00-D